DEPARTMENT OF THE INTERIOR

Bureau of Land Management

[MT-920-01-1310-FI-P; NDM 87298, NDM 87300, NDM 87301, NDM 87303]

Notice of Proposed Reinstatement of Terminated Oil and Gas Leases

AGENCY: Bureau of Land Management, Interior.

ACTION: Notice.

SUMMARY: Per Pub. L. 97-451, the lessee timely filed a petition for reinstatement of oil and gas leases NDM 87298, NDM 87300, NDM 87301, and NDM 87303, McKenzie County, North Dakota. The lessee paid the required rentals accruing from the dates of termination.

We haven't issued any leases affecting the lands. The lessee agrees to new lease terms for rentals and royalties of $10 per acre and 16-2/3 percent or 4 percentages above the existing competitive royalty rate. The lessee paid the $500 administration fee for the reinstatement of each lease and $148 cost for publishing this Notice.

The lessee has met the requirements for reinstatement of the leases per Section 31 (d) and (e) of the Mineral Leasing Act of 1920 (30 U.S.C. 188). We are proposing to reinstate the leases, effective the date of termination subject to:

• The original terms and conditions of the leases;

• The increased rental of $10 per acre;

• The increased royalty of 16 2/3 percent or 4 percentages above the existing competitive royalty rate; and

• The $148 cost of publishing this Notice.

FOR FURTHER INFORMATION CONTACT: Karen L. Johnson, Chief, Fluids Adjudication Section, BLM Montana State Office, P.O. Box 36800, Billings, Montana 59107, (406) 896-5098

Dated: January 22, 2001.
Karen L. Johnson,
Chief, Fluids Adjudication Section.

[FR Doc. 01-3512 Filed 2-9-01; 8:45 am]

BILLING CODE 4310-$$-P